DEPARTMENT OF THE INTERIOR

National Park Service

National Register of Historic Places; Notification of Pending Nominations

Nominations for the following properties being considered for listing in the National Register were received by the National Park Service before February 12, 2000. Pursuant to section 60.13 of 36 CFR Part 60 written comments concerning the significance of these properties under the National Register criteria for evaluation may be forwarded to the National Register, National Park Service, 1849 C St., NW, NC400, Washington, DC 20240. Written comments should be submitted by March 10, 2000.

Carol D. Shull,
Keeper of the National Register.

GEORGIA

Bryan County

Bryan Neck Presbyterian Church, Belfast Keller Rd., Keller, 00000193

Oconee County

Durham Homeplace, 1561 Watson Springs Rd., Watkinsville, 00000194

INDIANA

Clay County

Aqueduct Bridge, Towpath Rd. over Birch Creek, Clay City, 00000209

Feeder Dam Bridge, Towpath Rd. over Eel R., Clay City, 00000215

Indiana State Highway Bridge 42-11-3101, IN 42 over Eel R, Poland, 00000210

Indiana State Highway Bridge 46-11-1316, IN 46 over Eel R, Bowling Green, 00000211

Jeffers Bridge, CR 200S over Birch Creek, Clay City, 00000213

Shakamak State Park Historic District, (New Deal Resources on Indiana State Lands MPS) 6265 W. IN 48, Jasonville, 00000199

Hendricks County

Twin Bridges, Cty Rd. 150 E over White Lick Creek, Danville, 00000200

Huntington County

Old Plat Historic District, Roughly Bounded by Warren, John, Wilkerson, Lincoln, Washington, Second and Court Sts., Huntington, 00000196

Jay County

Haines, James, Farm, Cty Rd. 869E 200S, Portland, 00000202

Johnson County

Heck—Hasler House, 6612 N 575 E, Franklin, 00000204

Marion County

Shortridge—Meridian Street Apartments Historic District, Roughly bet. 34th and 38th Sts., along N. Meridian and N. Pennsylvania Sts., Indianapolis, 00000195

Monroe County

Coca-Cola Bottling Company Plant, 318 S. Washington St., Bloomington, 00000206

Home Laundry Company, 300 E 3rd St., Bloomington, 00000208

Morgan County

Neely House, 739 W. Washington St., Martinsville, 00000203

Rush County

Wood, John, Farmstead, 5255 W Cty Rd. 900 S, Milroy, 00000201

St. Joseph County

Service, Jeremiah H., House, 302 E. Michigan St., New Carlisle, 00000216

Sullivan County

Sullivan County Poor Home, 1447 Cty Rd. 75 N, Sullivan, 00000207

Vanderburgh County

Evansville Downtown Historic District, Roughly Main St. bet. 2nd St. and Martin Luther King Jr. Blvd., 4th St., vet. Sycamore and Chestnut St., Evansville, 00000197

General Cigar Company, 223 NW 2nd St., Evansville, 00000212

Vermillion County

Clinton Downtown Historic District, Roughly bet. S. Water and S. Third Sts.; Elm St. to the CRX RR R.O.W., Clinton, 00000205

MICHIGAN

Clinton County

Gibbs, Giles J., Building—Sugar Bowl, 12 N. Clinton Ave., St. Johns, 00000223

Eaton County

Michigan Central Railroad Charlotte Depot, 430 N Cochran Ave., Charlotte, 00000218

Keweenaw County

Church of the Assumption, US 41, E of M 26, Houghton Township, 00000220

Houghton County Traction Company Ahmeek Streetcar Station, US 41/M 26 and Hubbell St., Allouez, 00000221

Leelanau County

Morgan—Copp—Mervau Building, 101 N. Mill St., Northport, 00000219

Macomb County

General Motors Technical Center, Bounded by 12 Mile, Mound and Chicago Rds, and Van Dyke Ave., Warren, 00000224

Saginaw County

Gugel Bridge, Beyer Rd. at the Cass R, Frankenmuth Township, 00000217

Van Buren County

Houppert Winery Complex, 646 N Nursery, Lawton, 00000222

NEW HAMPSHIRE

Belknap County

District No. 9 Schoolhouse, 358 Hoyt Rd., Gilford, 00000198

NORTH CAROLINA

Franklin County

Massenburg Plantation (Boundary Increase), 821 NC 561, Louisburg, 00000225

Haywood County

Colonial Theater, 55-57 Park St., Canton, 00000226

OREGON

Deschutes County

Hamilton, Benjamin, House, (Craftman Bungalows in Deschutes County MPS), 552 NW State St., Bend, 00000228

Jones, Simpson E., House, (Craftman Bungalows in Deschutes County MPS), 1535 NW Awbrey Rd., Bend, 00000227

TENNESSEE

Sumner County

Maple Cottage, 1335 Long Hollow Pike, Cottontown, 00000229

Williamson County

Adams Street Historic District, (Williamson MPS), 1112-1400 Adams, 1251-1327 Adams St., and 304-308 Stewart St., Franklin, 00000233

Franklin Historic District (Boundary Increase), (Williamson MPS), 300 block of 4th Ave. S, Franklin, 00000232

Sparkman—Skelley Farm, (Williamson MPS), 5540 Leiper's Creek Rd., Boston, 00000234

Wilson County

Bailey, Harry, House, 423 Trousdale Ferry Rd., Lebanon, 00000230

WASHINGTON

Pierce County

1843 Fort Nisqually, Address Restricted, DuPont, 00000236

[FR Doc. 00-4319 Filed 2-23-00; 8:45 am]

BILLING CODE 4310-70-P